DEPARTMENT OF TRANSPORTATION

National Highway Traffic Safety Administration

[Docket No. DOT-NHTSA-2018-0001]

Reports, Forms, and Record Keeping Requirements

AGENCY: National Highway Traffic Safety Administration (NHTSA), Department of Transportation.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on April 11, 2018. No comments were received.

DATES: Comments must be submitted on or before May 1, 2019.

ADDRESSES: Send comments regarding the burden estimate, including suggestions for reducing the burden, to the Office of Management and Budget, Attention: Desk Officer for the Office of the Secretary of Transportation, 725 17th Street NW, Washington, DC 20503.

FOR FURTHER INFORMATION CONTACT: LeErnest Wells, Program Support Division, Office of Defect Investigation (NEF-110), (202) 366-9717, National Highway Traffic Safety Administration, Department of Transportation, 1200 New Jersey Avenue SE, W43-481, Washington, DC 20590. Please identify the relevant collection of information by referring to its OMB Control Number.

SUPPLEMENTARY INFORMATION:

Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation at 5 CFR 1320.8(d), an agency must ask for public comment on the following:

(i) whether the proposed collection of information is necessary for the proper performance of the functions of the agency, including whether the information will have practical utility;

(ii) the accuracy of the agency's estimate of the burden of the proposed collection of information, including the validity of the methodology and assumptions used;

(iii) how to enhance the quality, utility, and clarity of the information to be collected;

(iv) how to minimize the burden of the collection of information on those who are to respond, including the use of appropriate automated, electronic, mechanical, or other technological collection techniques or other forms of information technology, e.g. permitting electronic submission of responses.

In compliance with these requirements, NHTSA asks for public comments on the following proposed collections of information:

Title of Collection: Record Retention.

OMB Control Number: 2127-0042.

Type of Request: Renewal of a currently approved information collection.

Abstract: Under 49 U.S.C. 30166(e), NHTSA “reasonably may require a manufacturer of a motor vehicle or motor vehicle equipment to keep records, and a manufacturer, distributor or dealer to make reports, to enable NHTSA to decide whether the manufacturer, distributor, or dealer has complied or is complying with this chapter or a regulation prescribed under this chapter.” To ensure that NHTSA will have access to this type of information, the agency exercised the authority granted in 49 U.S.C. 30166(e) and promulgated 49 CFR part 576 Record Retention, initially published on August 20, 1974 and most recently amended on July 10, 2002 (67 FR 45873), requiring manufacturers to retain one copy of all records that contain information concerning malfunctions that may be related to motor vehicle safety for a period of five calendar years after the record is generated or acquired by the manufacturer. Manufacturers are also required to retain for ten years (five years for manufacturers of child seats and tires) the underlying records related to early warning reporting (EWR) information submitted under 49 CFR part 579. The information collected supports NHTSA's goal of improving highway safety.

The total burden hours for this estimate consist of:

(1) Approximately 1,000 manufacturers of vehicles and equipment (including tires, child restraint systems and trailers) are required to maintain records.

(2) We estimate their burden at 40 hours each for a subtotal of 40,000 hours (1,000 respondents × 40 hours).

(3) In addition, we estimate that an additional 20 equipment manufacturers have record retention requirements imposed by Part 576, limited to the submission of death reports. Based on recent year's counts of death reports received by NHTSA, we estimate that it will take one hour each to maintain the necessary records for a subtotal burden of 20 hours (20 respondents × one hour).

Accordingly, the estimate of total annual burden hours is 40,020 hours (1,000 respondents × 40 hours + 20 respondents × 1 hour).

NHTSA estimates that the hourly cost associated with the burden hours of 40,020 is approximately $20 per hour, consisting of both computer time and clerical time. Accordingly, the agency estimates that the total annual costs associated with the burden hours is $800,400 (40,020 annual burden hours × $20 per hour).

Affected Public: Manufacturers.

Estimated Number of Respondents: 1,020.

Frequency: As needed.

Number of Responses: 1,020.

Estimated Total Annual Burden Hours: 40,020.

Estimated Total Annual Burden Cost: $800,400.

Public Comments Invited: You are asked to comment on any aspect of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

A comment to OMB is most effective if OMB receives it within 30 days of publication.

Authority: The Paperwork Reduction Act of 1995; 44 U.S.C. Chapter 35, as amended; and 49 CFR 1:48.

Stephen A. Ridella,
Director, Office of Defects Investigation.

[FR Doc. 2019-06271 Filed 3-29-19; 8:45 am]

BILLING CODE 4910-59-P